DEPARTMENT OF HEALTH AND HUMAN SERVICES

Administration for Children and Families

Delegations of Authority

Notice is hereby given that on January 19, 2001 the Director of Child Support Enforcement redelegated to the Deputy Commissioner of Child Support Enforcement, all the authorities delegated to the Deputy Director/Commissioner of Child Support Enforcement by the Director of Child Support Enforcement. This delegation is subject to any limitations or conditions contained in the delegations to the Deputy Director/Commissioner.

Dated: January 19, 2001.
Olivia A. Golden,
Director, Child Support Enforcement.

[FR Doc. 01-3114 Filed 2-6-01; 8:45 am]

BILLING CODE 4184-01-M